DEPARTMENT OF STATE

[Public Notice: 10415]

Notice of Public Meeting

The Department of State will conduct an open meeting at 9:30 a.m. on June 28, 2018, in conference Room 4Y23-21 of the Douglas A. Munro Coast Guard Headquarters Building at St. Elizabeth's, 2703 Martin Luther King Jr. Avenue SE, Washington, DC 20593. The primary purpose of the meeting is to prepare for the fifth session of the International Maritime Organization's (IMO) Sub-Committee on Human Element, Training and Watch keeping (HTW) to be held at the IMO Headquarters, United Kingdom, July 16 to 20, 2018.

The agenda items to be considered include:

—Decisions of other IMO bodies

—Validated model training courses

—Reports on unlawful practices associated with certificates of competency

—Guidance for STCW Code, section B-I/2

—Comprehensive review of the 1995 STCW-F Convention

—Role of the Human Element

—Revision of the Guidelines on Fatigue

—Review of SOLAS chapter II-2 and associated codes to minimize the incidence and consequences of fires on ro-ro spaces and special category spaces of new and existing ro-ro passenger ships

—Amendments to the IGF Code and development of guidelines for low-flashpoint fuels

—Revised SOLAS regulation II-1/3-8 and associated guidelines (MSC.1/Circ.1175) and new guidelines for safe mooring operations for all ships

—Measures to harmonize port State control (PSC) activities and procedures worldwide

—Biennial status report and provisional agenda for HTW 6

—Any other business

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Mr. Davis Breyer, by email at Davis.J.Breyer@uscg.mil, by phone at (202) 372-1445, or in writing at 2703 Martin Luther King Jr. Ave. SE, Stop 7509, Washington, DC 20593-7509 not later than June 21, 2018, 7 days prior to the meeting. Requests made after June 21, 2018 might not be able to be accommodated. Please note that due to security considerations, two valid, government issued photo identifications must be presented to gain entrance to the Douglas A. Munro Coast Guard Headquarters Building at St. Elizabeth's. This building is accessible by taxi, public transportation, and privately owned conveyance (upon request).

Joel C. Coito,
Coast Guard Liaison Officer, Office of Ocean and Polar Affairs, Department of State.

[FR Doc. 2018-10480 Filed 5-16-18; 8:45 am]

BILLING CODE 4710-09-P